DEPARTMENT OF VETERANS AFFAIRS

[OMB Control No. 2900-0830]

Agency Information Collection Activity Under OMB Review: Claim for Reimbursement of Travel Expenses

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0830.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0830” in any correspondence.

SUPPLEMENTARY INFORMATION:

Authority: 38 U.S.C. 501(a) and 38 U.S.C. 111.

Title: Claim for Reimbursement of Travel Expenses.

OMB Control Number: 2900-0830.

Type of Review: Revision of a currently approved collection.

Abstract: VA Form 28-0968, Claim for Reimbursement of Travel Expenses serves as a request to collect information for claimants to apply for the mileage reimbursement benefit in an efficient, convenient, and accurate manner. VR&E must determine the identity of the claimant; the dates and length of the trip being claimed, based on the claimant's residence and the place of initial evaluation, reevaluation, and counseling to include personal or vocational adjustment, training, and attendant travel, or other place in connection with vocational rehabilitation; and whether expenses other than mileage are being claimed. Once the information is obtained, it is entered into the case management system and then the form is sent to the Support Services Division (SSD) to process payment.

An agency may not conduct or sponsor, and a person is not required to respond to a collection of information unless it displays a currently valid OMB control number. The Federal Register Notice with a 60-day comment period soliciting comments on this collection of information was published at 89 FR 11945 on Thursday, February 15, 2024, pages 11945 and 11946.

Affected Public: Individuals or Households.

Estimated Annual Burden: 27,500 hours.

Estimated Average Burden per Respondent: 15 minutes.

Frequency of Response: One time.

Estimated Number of Respondents: 110,000 per year.

By direction of the Secretary.
Maribel Aponte,
VA PRA Clearance Officer, Office of Enterprise and Integration, Data Governance Analytics, Department of Veterans Affairs.

[FR Doc. 2024-09560 Filed 5-1-24; 8:45 am]

BILLING CODE 8320-01-P